DEPARTMENT OF THE INTERIOR

National Park Service

National Register of Historic Places; Notification of Pending Nominations

Nominations for the following properties being considered for listing in the National Register were received by the National Park Service before June 5, 2004. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 3, 2004.

Carol D. Shull,
Keeper of the National Register of Historic Places.

ALASKA

Kodiak Island Borough-Census Area

Kad'yak, Address Restricted, Kodiak, 04000678

CALIFORNIA

Los Angeles County

Casa de Rosas, 2600 S. Hoover St., Los Angeles, 04000679

La Loma Bridge, Crossing the Arroyo Seco at La Loma Broad, Pasadena, 04000680

COLORADO

Larimer County

Clatworthy Place, 225 Cyteworth Rd., Estes Park, 04000681

FLORIDA

Duval County

Old Ortega Historic District, Bounded by Roosevelt Blvd., Verona Ave., St. Johns and Ortega Rivers, Jacksonville, 04000682

GEORGIA

DeKalb County

Alston, Robert A., House, 2420 Alston Dr., SE off Eastlake Rd., Atlanta, 04000683

KANSAS

Douglas County

Lawrence's Downtown Historic District, (Lawrence, Kansas MPS) Generally along Massachusetts St. bet. 6th Ave. and S. Park St., Lawrence, 04000685

North Rhode Island Street Historic Residential District, (Lawrence, Kansas MPS) 700-1144,901-1047,1201-1215 Rhode Island St., Lawrence, 04000686

Pinckney I Historic District, Roughly bounded by W. 5th St., Tennessee St., W., 6th St., and Louisiana St., Lawrence, 04000688

Pinckney II Historic District, Roughly bounded by W. 3rd St., Louisiana St., W. 4th St. and Mississippi St., Lawrence, 04000689

South Rhode Island and New Hampshire Street Historic Residential District, (Lawrence, Kansas MPS) E Rhode Island St, 1120-1340; W Rhode Island St., 1301-1345; E New Hampshire St., 1300-1346, W New Hampshire St. 1301-1347, Lawrence, 04000687

Norton County

Barbeau House, 210 E. Washington Ave., Lenora, 04000684

MAINE

Penobscot County

Cobbs Camp, South Shore of Katahdin Lake, T3R8 WELS, 04000693

MICHIGAN

Kent County

Kent County Civil War Monument, Division Ave. at Monroe Ave., Grand Rapids, 04000690

Metal Office Furniture Company (Steelcase) Plants No. 2 and 3, 401 Hall St. SW, Grand Rapids, 04000691

Marquette County

Negaunee Fire Station, 200 S. Pioneer Ave., Negaunee, 04000692

MISSOURI

Jackson County

Acme Brass and Machine Works Building, 609-611 E 17th St., Kansas City, 04000694

Newton County

First Battle of Newtonia Historic District, Jct. of MO 86 and MO 0, Newtonia, 04000697

Second Battle of Newtonia Site, Roughly an area NW, SW and SE of jct. of MO 86 and Rte 0 at Newtonia, Newtonia, 04000698

St. Francois County

East Columbia Historic District, S side of East Columbia: 14-122 E. Columbia, N side: 101-103 and 117-119 E. Columbia, Farmington, 04000699

St. Louis County

East Monroe Historic District, (Kirkwood MPS) Roughly bounded by Madison Ave., S. Holmes St., Scott Ave., and Smith St., Kirkwood, 04000695

Jefferson—Argonne Historic District, (Kirkwood MPS) Roughly defined as both sides of Jefferson Ave., the N side of Argonne bet. Taylor St. and Holmes Ave., Kirkwood, 04000696

NEW MEXICO

Chaves County

Ozark Trails Marker at Lake Arthur, Jct. of Main and Broadway Sts., Lake Arthur, 04000702

NEW YORK

Erie County

Birge—Horton House, 477 Delaware Ave., Buffalo, 04000703

Jefferson County

Bates, Cyrus, House, 7185 NY 3, Henderson, 04000710

Niagara County

Marshall, James G., House, 740 Park Place, Niagara Falls, 04000709

St. Mary's Nurses' Residence, 542 6th St., Niagara Falls, 04000711

Oneida County

Otter Lake Community Church, NY 28, Otter Lake, 04000704

Queens County

Forest Park Carousel, Woodhaven Blvd. and Myrtle Ave., Woodhaven, 04000706

Schenectady County

Glen, Abraham, House, Mohawk Ave., Scotia, 04000708

Steuben County

Canisteo Living Sign, SE side of hill, N of Cemetery Rd. off Greenwood St., Canisteo, 04000707

Tompkins County

District Number 7 School, Mill Rd. at the Park, Speedsville, 04000701

Westchester County

Stepping Stones, 62 Oak Rd., Katonah, 04000705

NORTH DAKOTA

Grand Forks County

Grand Forks Merchantile Building 1898, (Downtown Grand Forks MRA) 112-118 N. Third St., Grand Forks, 04000700

OHIO

Cuyahoga County

Bedford Historic District, Roughly bounded by Willis St., Franklin St., Broadway Ave., and Columbus Rd., Bedford, 04000712

VIRGINIA

Rappahannock County

Carder, George L., House, 456 Scrabble Rd., Castleton, 04000715

WISCONSIN

Milwaukee County

Goodwill Industries Building, 2102 W. Pierce St., Milwaukee, 04000714

Racine County

Driver, Thomas, and Sons Manufacturing Company, 134 S. Main St., 214 State St., Racine, 04000713

[FR Doc. 04-13740 Filed 6-17-04; 8:45 am]

BILLING CODE 4312-51-P